DEPARTMENT OF TRANSPORTATION

Federal Aviation Administration

14 CFR Parts 43, 65, and 147

[Docket No.: FAA-2021-0237; Amdt. No. 43-52A, 65-63A, 147-9A]

RIN 2120-AL67

Aviation Maintenance Technician Schools

AGENCY: Federal Aviation Administration (FAA), Department of Transportation.

ACTION: Interim final rule; reopening of comment period for regulatory impact analysis only.

SUMMARY: This action reopens the comment period for the regulatory evaluation associated with the FAA's interim final rule, Aviation Maintenance Technician Schools, which was published in the Federal Register on May 24, 2022. The regulatory evaluation associated with this rule was not posted to the docket prior to the close of the comment period. Therefore, the FAA is reopening the comment period to allow the public the opportunity to adequately analyze the full regulatory evaluation of the interim final rule. The FAA will accept comments on the regulatory evaluation only and not on the regulatory changes in the interim final rule.

DATES: The comment period for the interim final rule published on May 24, 2022 (87 FR 31391), closed on June 23, 2022, is reopened until April 14, 2023.

ADDRESSES: You may send comments identified by docket number FAA-2021-0237 using any of the following methods:

• Federal eRulemaking Portal: Go to www.regulations.gov and follow the online instructions for sending your comments electronically.

• Mail: Send comments to Docket Operations, M-30; U.S. Department of Transportation (DOT), 1200 New Jersey Avenue SE, Room W12-140, West Building Ground Floor, Washington, DC 20590-0001.

• Hand Delivery or Courier: Take comments to Docket Operations in Room W12-140 of the West Building Ground Floor at 1200 New Jersey Avenue SE, Washington, DC, between 9 a.m. and 5 p.m., Monday through Friday, except Federal holidays.

• Fax: Fax comments to Docket Operations at 202-493-2251.

Privacy: In accordance with 5 U.S.C. 553(c), DOT solicits comments from the public to better inform its rulemaking process. DOT posts these comments, without edit, including any personal information the commenter provides, to www.regulations.gov, as described in the system of records notice (DOT/ALL-14 FDMS), which can be reviewed at www.dot.gov/privacy.

Docket: Background documents or comments received may be read at www.regulations.gov at any time. Follow the online instructions for accessing the docket or visit Docket Operations in Room W12-140 of the West Building Ground Floor at 1200 New Jersey Avenue SE, Washington, DC, between 9 a.m. and 5 p.m., Monday through Friday, except Federal holidays.

FOR FURTHER INFORMATION CONTACT: For technical questions concerning this action, contact Tanya Glines, Aircraft Maintenance Division, Federal Aviation Administration, 800 Independence Avenue SW, Washington, DC 20591; telephone (202) 380-5896; email Tanya.Glines@faa.gov.

SUPPLEMENTARY INFORMATION: See the “Additional Information” section for information on how to comment on this action and how the FAA will handle comments received. The “Additional Information” section also contains information on obtaining copies of related rulemaking documents.

Background

On December 27, 2020, Congress passed the Consolidated Appropriations Act (Pub. L. 116-260), which includes the Aircraft Certification, Safety, and Accountability Act (the “Act”). Section 135 of the Act, titled “Promoting Aviation Regulations for Technician Training,” directed the FAA to issue interim final regulations to establish requirements for issuing aviation maintenance technician school (AMTS) certificates and associated ratings and the general operating rules for the holders of those certificates and ratings in accordance with the requirements set forth within section 135.

On May 24, 2022, the FAA published the interim final rule (IFR), titled “Aviation Maintenance Technician Schools” (87 FR 31391). The comment period for this rulemaking closed on June 23, 2022. On July 26, 2022, the Office of Management and Budget (OMB) approved the collection under the existing information collection OMB Control Number 2120-0040. The rule became effective on September 21, 2022, except for amendatory instructions 6 and 9, which will become effective on August 1, 2023.

The regulatory evaluation (also referred to as the regulatory impact analysis) associated with this IFR was not posted to the docket before the close of the comment period. To ensure that the public has the opportunity to provide comments specifically on the regulatory evaluation now posted in the docket (FAA-2021-0237), the FAA is reopening the comment period for 30 days to allow for the comments on the regulatory evaluation only. The FAA will not address comments on the substance of the IFR itself because the comment period for the IFR closed on June 23, 2022.

Accordingly, the comment period for the interim final rule is reopened only as it pertains to the regulatory evaluation that is now in the docket until April 14, 2023.

Additional Information

A. Comments Invited

The FAA invites interested persons to participate in this rulemaking by submitting written comments, data, or views. The most helpful comments reference a specific portion of the regulatory evaluation, explain the reasons for any recommended change, and include supporting data. To ensure the docket does not contain duplicate comments, commenters should send only one copy of written comments, or if comments are filed electronically, commenters should submit only one time.

The FAA will file in the docket all comments it receives, as well as a report summarizing each substantive public contact with FAA personnel concerning this proposed rulemaking. The FAA will consider all comments it receives on or before the closing date for comments. The FAA will also consider comments filed late to the extent practicable. The IFR may be amended based on comments received.

B. Availability of the Regulatory Impact Analysis

An electronic copy of rulemaking documents may be obtained by using the internet—

1. Search the Federal eRulemaking Portal at www.regulations.gov;

2. Visit the FAA's Regulations and Policies web page at www.faa.gov/regulations_policies/; or

3. Access the Government Printing Office's web page at GovInfo.gov.

Copies may also be obtained by sending a request (identified by notice, amendment, or docket number of this rulemaking) to the Federal Aviation Administration, Office of Rulemaking, ARM-1, 800 Independence Avenue SW, Washington, DC 20591, or by calling (202) 267-9677.

Issued in Washington, DC, on March 10, 2023.
Brandon Roberts,
Executive Director, Office of Rulemaking.

[FR Doc. 2023-05291 Filed 3-14-23; 8:45 am]

BILLING CODE 4910-13-P